DEPARTMENT OF HEALTH AND HUMAN SERVICES

Administration for Children and Families

Statement of Organization, Functions, and Delegations of Authority

AGENCY: Office of Early Childhood Development, Administration for Children and Families, Department of Health and Human Services (HHS).

ACTION: Notice; Delegations of Authority.

SUMMARY: The Administration for Children and Families (ACF) has redelegated the authorities for the Preschool Development Grants Birth Through Five (PDG B-5) and Tribal Maternal Infant and Early Childhood Home Visiting (MIECHV) Program from the Office of Child Care to the Office of Early Childhood Development.

FOR FURTHER INFORMATION CONTACT: Melissa Lim Brodowski, Deputy Director, Office of Early Childhood Development, 330 C Street SW, Washington, DC 20201, 202-401-9335.

SUPPLEMENTARY INFORMATION: I. By this notice, I rescind certain previously delegated authorities to the Director, Office of Child Care, and delegate authorities to the Deputy Assistant Secretary for Early Childhood Development.

Authorities delegated:

The authority delegated to me by the Secretary of the Department of Health and Human Services to administer the provisions of the PDG B-5, authorized by Section 9212 of the Every Student Succeeds Act, 42 U.S.C. 9831 note, now and hereafter for the life of the program. I also rescind the delegation to the Director, Office of Child Care.

Section 9212 of Every Student Succeeds Act, 42 U.S.C. 9831 note, authorizes the Secretary of the Department of Health and Human Services to award initial and renewal grants to eligible entities for the purpose of carrying out the requirements of PDG B-5 grant program. This includes administering the grants funded under this program, as well as administrative services and contracts related to technical assistance to support the program. The initial PDG B-5 grants were designed to facilitate collaboration and coordination among existing programs within the state's early childhood care and education system. The PDG B-5 Renewal Grant Initiative will fund states to enhance, expand, and/or build upon activities described in their initial grant.

The authority delegated to me by the Secretary of the Department of Health and Human Services regarding implementation of the Tribal Maternal, Infant, and Early Childhood Home Visiting Program (Tribal MIECHV), authorized and funded by Section 511 of Title V of the Social Security Act, now and hereafter for the duration of the agreement with the Health Resources and Services Administration (HRSA) to administer the program. I also rescind the delegation to the Director, Office of Child Care, for the administration of the Tribal MIECHV grants.

Since FY 2010, HRSA and ACF have collaborated on the administration of the MIECHV program, which includes a set aside for the tribal home visiting program. Funding is provided by HRSA to ACF for administrative services and contracts related to research, evaluation, and associated technical assistance through an Intra-agency Agreement mechanism and for tribal grant program and technical assistance through an Intra-Departmental Delegation of Authority. The Office of Early Childhood Development manages the Tribal MIECHV grants and programmatic technical assistance for the grant program (listed below).

Tribal MIECHV Grants—Grants awarded on a competitive basis to eligible Indian tribes (including consortia of tribes), tribal organizations, and/or urban Indian organizations to enable the entities to deliver services under early childhood home visiting programs to at-risk families to improve the child and family outcomes listed above.

Contracts for Technical Assistance—Contracts to provide technical assistance to tribal entities administering home visiting programs, including support needed to collect MIECHV benchmark data, conduct evaluation and continuous quality improvement activities, and implement programs.

Tribal MIECHV Grantee Meeting—Contracts to support the planning and implementation of the Tribal MIECHV grantee meeting. This includes logistical support and coordination of meeting content.

II. Continuation of Policy. Except as inconsistent with this redelegation, all statements of policy and interpretations with respect to organizational components affected by this notice within ACF, heretofore issued and in effect on this date of this redelegation are continued in full force and effect.

III. Delegation of Authority. All delegations and redelegations of authority made to officials and employees of affected organizational components will continue in them or their successors pending further redelegations, provided they are consistent with this redelegation.

IV. Funds, Personnel, and Equipment. Transfer of organizations and functions affected by this redelegation shall be accompanied in each instance by direct and support funds, positions, personnel, records, equipment, supplies, and other resources.

This redelegation of authority supersedes all previous delegations for the PDG B-5 Program and Tribal MIECHV Program. This redelegation will be effective upon date of signature.

January Contreras,
Assistant Secretary for Children and Families.

[FR Doc. 2022-20967 Filed 9-27-22; 8:45 am]

BILLING CODE 4184-43-P